DEPARTMENT OF AGRICULTURE

Forest Service

Shasta County Resource Advisory Committee (RAC)

AGENCY: USDA Forest Service.

ACTION: Notice of meeting.

SUMMARY: The Shasta County Resource Advisory Committee (RAC) will meet on May 15, 2002, in Redding, Calif. The purpose of the meeting will be to review and discuss remaining project proposals.

DATES: The meeting will be held on May 15, 2002, from 8 a.m. to noon.

ADDRESSES: The meeting will be held in the Shasta County Office of Education conference room, 1644 Magnolia Ave., Redding, CA

FOR FURTHER INFORMATION CONTACT: Sharon Heywood, Designated Federal Official, USDA Shasta-Trinity National Forest, 2400 Washington Ave., Redding, CA. Phone: (530) 242-2200. Email:sheywood@fs.fed.us.

SUPPLEMENTARY INFORMATION: The meeting is open to the public. Time will be provided for public input, giving individuals the opportunity to address the committee.

Dated: April 19, 2002.
J. Sharon Heywood,
Forest Supervisor.

[FR Doc. 02-10267 Filed 4-25-02; 8:45 am]

BILLING CODE 3410-11-M